DEPARTMENT OF HOMELAND SECURITY

Coast Guard

33 CFR Part 117

[Docket No. USCG-2010-0227]

Drawbridge Operation Regulations; Shaw Cove, New London, CT, Maintenance

AGENCY: Coast Guard, DHS.

ACTION: Notice of temporary deviation from regulations.

SUMMARY: The Commander, First Coast Guard District, has issued a temporary deviation from the regulation governing the operation of the Amtrak Bridge across Shaw Cove, mile 0.0, at New London, Connecticut. This deviation allows the bridge to remain in the closed position to facilitate scheduled maintenance.

DATES: This deviation is effective from 6 p.m. on April 25, 2010 through 6 a.m. on April 27, 2010.

ADDRESSES: Documents mentioned in this preamble as being available in the docket are part of docket USCG-2010-0227 and are available online at http://www.regulations.gov, inserting USCG-2010-0227 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Ms. Judy Leung-Yee, Project Officer, First Coast Guard District, telephone (212) 668-7165. If you have questions on viewing the docket, call Renee V. Wright, Program Manager, Docket Operations, telephone 202-366-9826.

SUPPLEMENTARY INFORMATION: The Amtrak Bridge, across Show Cove at mile 0.0, at New London, Connecticut, has a vertical clearance in the closed position of 3 feet at mean high water and 6 feet at mean low water. The drawbridge operation regulations are listed at 33 CFR 117.223.

The owner of the bridge, the National Passenger Rail Corporation (Amtrak), requested a temporary deviation from the regulations to facilitate scheduled bridge maintenance, gear box repairs and main drive shaft repairs at the bridge.

Under this temporary deviation the Amtrak Bridge may remain in the closed position from 6 p.m. on April 25, 2010 through 6 a.m. on April 26, 2010 and from 10 p.m. on April 26, 2010 through 6 a.m. on April 27, 2010.

The North Channel under the bridge will be blocked from 10 p.m. on April 26, 2010 through 6 a.m. on April 27, 2010, by a work barge during the main drive shaft repairs. Vessels that can pass under the bridge in the closed position may do so at any time through the South Channel.

Waterway users were advised of the requested bridge and channel closure and offered no objection.

In accordance with 33 CFR 117.35(e), the bridge must return to its regular operating schedule immediately at the end of the designated time period. This deviation from the operating regulations is authorized under 33 CFR 117.35.

Dated: April 5, 2010.
Gary Kassof,
Bridge Program Manager, First Coast Guard District.

[FR Doc. 2010-9124 Filed 4-20-10; 8:45 am]

BILLING CODE 9110-04-P